ENVIRONMENTAL PROTECTION AGENCY

[FRL-8915-5]

Science Advisory Board Staff Office; Notification of a Public Teleconference and Meeting of the Science Advisory Board Risk and Technology Review Assessment Methodologies Panel

AGENCY: Environmental Protection Agency.

ACTION: Notice.

SUMMARY: The Environmental Protection Agency (EPA) Science Advisory Board (SAB) Staff Office announces a public teleconference and a face-to-face meeting of the SAB Risk and Technology Review Assessment Methodologies Panel to review the Agency's draft methodologies for performing assessments of residual risk featuring case studies from the Petroleum Refineries and Portland Cement Manufacturing source categories.

DATES: The SAB will hold the public teleconference on June 30, 2009 from 1 p.m. to 4 p.m. (Eastern Time). A face-to-face meeting will be held on July 28, 2009 from 9 a.m. to 5 p.m. (Eastern Time) and will continue on July 29, 2009 from 9 a.m. to 4 p.m. (Eastern Time).

ADDRESSES: The telephone conference will be conducted by phone only. The July 28-29, 2009 face-to-face meeting will be held at the Marriott at Research Triangle Park, 4700 Guardian Drive, Durham, NC 27703.

FOR FURTHER INFORMATION CONTACT: Any member of the public wishing to obtain general information concerning this public teleconference or meeting should contact Dr. Sue Shallal, Designated Federal Officer (DFO), EPA Science Advisory Board (1400F), U.S. Environmental Protection Agency, 1200 Pennsylvania Avenue, NW., Washington, DC 20460; via telephone/voice mail: (202) 343-9977; fax: (202) 233-0643; or e-mail at shallal.suhair@epa.gov. General information concerning the EPA Science Advisory Board can be found on the SAB Web site at http://www.epa.gov/sab.

SUPPLEMENTARY INFORMATION: Pursuant to the Federal Advisory Committee Act, 5 U.S.C., App. 2 (FACA), notice is hereby given that the EPA SAB Risk and Technology Review Assessment Methodologies Panel will hold a public teleconference and a face-to-face meeting to prepare for and review the Agency's draft document on methodologies for the assessment of residual risk featuring case studies from the Petroleum Refineries and Portland Cement Manufacturing source categories. The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: EPA's Office of Air Quality Planning and Standards (OAQPS) has requested that the SAB conduct a review of their methodologies for conducting Risk and Technology Review Assessments in conjunction with assessments of residual risk required by the Clean Air Act. These assessments evaluate the effects of industrial emissions of hazardous air pollutants (HAPs) on public health and the environment. The proposed methodologies are demonstrated through the use of two case studies, (1) petroleum refineries and (2) Portland cement manufacturers. Background on this SAB review and the process for formation of this review panel was provided in a Federal Register Notice published on January 31, 2008 (73 FR 5836-5838). The purpose of this upcoming teleconference is for the SAB Review Panel to discuss EPA's charge questions and plan for the face-to-face meeting. The Panel will then discuss and deliberate on the charge questions at the face-to-face meeting.

Availability of Meeting Materials: The meeting agendas and other materials, including a link to access the EPA's document(s) related to the peer review, will be posted on the SAB Web site (http://www.epa.gov/sab) in advance of the meeting. For questions and information concerning the Agency's documents, please contact Dave Guinnup at 919-541-5368 or guinnup.dave@epa.gov.

Procedures for Providing Public Input: Interested members of the public may submit relevant written or oral information for the SAB to consider on the topics included in this advisory activity and/or group conducting the activity. Oral Statements: In general, individuals or groups requesting an oral presentation at a public SAB teleconference will be limited to three minutes per speaker, with no more than a total of one-half hour for all speakers. At the face-to-face meeting, presentations will be limited to five minutes, with no more than a total of one hour for all speakers. To be placed on the public speaker list, interested parties should contact Dr. Sue Shallal, DFO, in writing (preferably via e-mail), by June 22, 2009 for the teleconference and by July 21, 2009 for the face-to-face meeting, at the contact information noted above. Written Statements: Written statements should be received in the SAB Staff Office by June 22, 2009, so that the information may be made available to the SAB for their consideration prior to the teleconference or by July 21, 2009 for their consideration prior to the face-to-face meeting. Written statements should be supplied to the DFO via e-mail to shallal.suhair@epa.gov (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Dr. Sue Shallal at (202) 343-9977 or shallal.suhair@epa.gov. To request accommodation of a disability, please contact Dr. Shallal preferably at least ten days prior to the meeting, to give EPA as much time as possible to process your request.

Dated: June 3, 2009.
Anthony F. Maciorowski,
Deputy Director, EPA Science Advisory Board Staff Office.

[FR Doc. E9-13597 Filed 6-9-09; 8:45 am]

BILLING CODE 6560-50-P